DEPARTMENT OF HEALTH AND HUMAN SERVICES

Centers for Disease Control and Prevention

[30Day-25-0213]

Agency Forms Undergoing Paperwork Reduction Act Review

In accordance with the Paperwork Reduction Act of 1995, the Centers for Disease Control and Prevention (CDC) has submitted the information collection request titled “National Vital Statistics Report Form” to the Office of Management and Budget (OMB) for review and approval. CDC previously published a “Proposed Data Collection Submitted for Public Comment and Recommendations” notice on June 16, 2025, to obtain comments from the public and affected agencies. CDC received three comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

National Vital Statistics Report Form (OMB Control No. 0920-0213)—Reinstatement—National Center for Health Statistics (NCHS), Centers for Disease Control and Prevention (CDC).

Background and Brief Description

The compilation of national vital statistics by the federal government dates to the beginning of the 20th century. To administer these functions, the National Office of Vital Statistics was established in the Public Health Service in April 1953. In August of 1960, the National Office of Vital Statistics was reorganized as the Division of Vital Statistics in the newly created National Center for Health Statistics (NCHS), which is now part of the Centers for Disease Control and Prevention (CDC).

One of the functions of NCHS is to plan and administer a program to provide statistics on births, deaths, fetal deaths, marriages, and divorces reported in the National Vital Statistics System. This includes promoting the uniform collection of data on these events and providing technical assistance to the registration areas; conducting follow-back surveys to expand the scope of national vital statistics beyond the data available from vital records; preparing life tables and analyses of life table phenomena; and investigating the quality and reliability of data and methodology. One part of this function is to provide national final counts of marriage, and divorce occurrences following the end of each year. The collection of the data is authorized by 42 U.S.C. 242k. Provisional counts of marriages and divorces are disseminated electronically. This form is the sole source of final counts for these two events.

This data has been published since 1937 and is the sole source of this information at the national level. The data are used by the Department of Health and Human Services (HHS) and by other government, academic, and private research organizations in tracking changes in trends of vital events. The counts of events requested on the form are necessary to the administration of this portion of the program.

CDC requests OMB approval for an estimated 46 annual burden hours. There are no costs to respondents other than their time.

Estimated Annualized Burden Hours
Type of respondents | Form name | Number of respondents | Number of responses per respondent | Average burden per response (in hours)
State, Territory, and New Mexico County Officials | Annual Vital Statistics Occurrence Report | 91 | 1 | 30/60

Jeffrey M. Zirger,
Lead, Information Collection Review Office, Office of Public Health Ethics and Regulations, Office of Science, Centers for Disease Control and Prevention.

[FR Doc. 2025-19257 Filed 10-1-25; 8:45 am]

BILLING CODE 4163-18-P